DEPARTMENT OF THE INTERIOR

National Park Service

[7700-1104-SZS]

Record of Decision, Long Walk National Historic Trail Feasibility Study/Abbreviated Final Environmental Impact Statement, National Trails Intermountain Region, NM

AGENCY: National Park Service, Interior.

ACTION: Notice of Availability of a Record of Decision on the Abbreviated Final Environmental Impact Statement for the Long Walk National Historic Trail Feasibility Study.

SUMMARY: Pursuant to the National Environmental Policy Act of 1969, 42 U.S.C. 4332(2)(C), the National Park Service announces the availability of the Record of Decision for the Abbreviated Final Environmental Impact Statement for the Long Walk National Historic Trail Feasibility Study, prepared by National Trails Intermountain Region, Santa Fe, New Mexico. On August 3, 2011, the Regional Director, Intermountain Region approved the Record of Decision for the project. Four alternatives and their respective environmental consequences were presented in the study. The Record of Decision identifies the preferred alternative as alternative A, no-action. Under the no-action alternative, a national historic trail would not be designated. Interpretation and protection of Long Walk-related events and resources would not be coordinated by a single, overarching federal agency. State, county, and tribal laws for historic preservation would continue to apply; no new federal actions would be taken to protect other significant resources.

In the feasibility study, the National Park Service found that the Long Walk routes fully meet the criteria for national historic trails. The overall nature of public comments during the review period supported designation of a national historic trail. The National Park Service decision to support the no action alternative as the selected action is based on the lack of support for designation by the Navajo Nation Tribal Council and the Mescalero Apache Tribe.

The Record of Decision includes a statement of the decision made, synopses of other alternatives considered, the basis for the decision, a description of the environmentally preferable alternative, and an overview of public involvement in the decision-making process. Impairment and measures to minimize environmental harm are not addressed in the Record of Decision because the study involved no park resources.

FOR FURTHER INFORMATION CONTACT: Sharon A. Brown, National Trails Intermountain Region, National Park Service, P.O. Box 728, 1100 Old Santa Fe Trail, Santa Fe, New Mexico 87504-0728; (505) 988-6717.

SUPPLEMENTARY INFORMATION: Copies of the Record of Decision may be obtained online at http://parkplanning.nps.gov/ntir or from the contact listed above.

Dated: October 17, 2011.
Laura Joss,
Deputy Regional Director, Intermountain Region, National Park Service.

[FR Doc. 2011-29354 Filed 11-17-11; 8:45 am]

BILLING CODE P